DEPARTMENT OF HEALTH AND HUMAN SERVICES

National Institutes of Health

National Institute of Child Health and Human Development; Amended Notice of Meeting

Notice is hereby given of a change in the meeting of the National Institute of Child Health and Human Development Special Emphasis Panel, February 21, 2007, 1 p.m. to February 21, 2007, 4 p.m. National Institutes of Health, 6100 Executive Blvd., Room 5B01, Rockville, MD 20852 which was published in the Federal Register on February 12, 2007, 72 FR 7897.

The meeting will be held March 15, 2007 from 1 p.m. to 4 p.m. The meeting is closed to the public.

Dated: March 5, 2007.
Anna Snouffer,
Acting Director, Office of Federal Advisory Committee Policy.

[FR Doc. 07-1115 Filed 3-8-07; 8:45 am]

BILLING CODE 4140-01-M